DEPARTMENT OF LABOR

48 CFR Chapter 29

RIN 1291-AA43

DOL Acquisition Regulation: Department of Labor Acquisition Regulation System

AGENCY: Office of the Assistant Secretary for Administration and Management, Department of Labor.

ACTION: Notice of proposed rulemaking; request for comments.

SUMMARY: The Department of Labor (DOL) is proposing to revise the Department of Labor Acquisition Regulations (DOLAR), in its entirety in order to update and streamline agency procurement regulations consistent with the Federal Acquisition Reform Act, and the Federal Acquisition Streamlining Act. The proposed updates remove provisions that are redundant or obsolete and codify the use of certain contractual provisions that DOL has developed and deployed in recent years in order to put potential contractors on notice of these provisions and to formalize their usage. The provisions address a range of matters, including: government property, continuity of operations, system requirements, records management, telework policy for contractor personnel, submission of invoices, mandatory training for contractors, organizational conflicts of interest, and changing the scope of a contract. Proposed edits have also been made to existing language for clarity and streamlining purposes and do not change the substantive meaning of those provisions. The proposed revision will also remove provisions in the current DOLAR that are DOL internal operating procedures, which need not be published in the Code of Federal Regulations in order for them to take effect. The current DOLAR supplements the executive branch-wide Federal Acquisition Regulations (FAR) to address matters specific to the Department of Labor relating to its procurement of goods and services. It also includes certain rules governing private entities doing business with DOL.

DATES: Comments must be received on or before November 6, 2023 to be considered in the formulation of the final rule.

ADDRESSES: Comments may be submitted through www.Regulations.gov. Follow the website instructions for submitting comments. The electronic Federal Docket Management System at www.regulations.gov will accept electronic comments until 11:59 p.m. Eastern Time on the comment due date. Comments received will be available at regulations.gov for public viewing, inspection, or copies.

FOR FURTHER INFORMATION CONTACT: Ms. Isela Martin, Office of Suspension and Debarment, N-2445, 200 Constitution Ave. NW, Washington, DC 20210, (202) 693-7294. (This is not a toll-free number.)

SUPPLEMENTARY INFORMATION:

I. Public Participation

Interested persons are invited to participate in this rulemaking by submitting written data, views, or arguments on all aspects of this rule via one of the methods and by the deadline stated above. All comments must be submitted in English or accompanied by an English translation. DOL also invites comments that relate to the economic, environmental, or federalism effects that might result from this rule. Comments that will provide the most assistance to DOL in developing these procedures will reference a specific portion of the rule, explain the reason for any recommended change, and include data, information, or authority that supports such recommended change.

Please note that all comments received are considered part of the public record and made available for public inspection at www.regulations.gov. Such information includes personally identifying information (PII) (such as your name, address, etc.). Interested persons are not required to submit their personally identifying information in order to comment on this rule. However, any PII that is submitted is subject to being posted to the publicly accessible www.regulations.gov site without redaction.

Confidential business information identified and located as set forth above will not be placed in the public docket file. DOL may withhold from public viewing information provided in comments that they determine may impact the privacy of an individual or is offensive. For additional information, please read the Privacy Act notice that is available via the link in the footer of www.regulations.gov. To inspect the agency's public docket file in person, you must make an appointment with the agency. Please see the FOR FURTHER INFORMATION CONTACT section above for agency contact information.

II. Discussion

A. Background—The FAR, the OFPP Act, and the DOLAR

When Federal agencies acquire supplies and services using appropriated funds, the purchase is governed by the government-wide FAR, set forth at Title 48 of the Code of Federal Regulations (CFR), Chapters 1 through 53, and by agency specific regulations that implement and supplement the FAR. DOL's agency specific procurement regulations are found in the DOLAR, which is set forth at Chapter 29 of Title 48 of the CFR, Parts 2901 to 2953. The purpose of the DOLAR is to implement the FAR within DOL, and to supplement the FAR to address certain subject matter not covered in the FAR.

This rulemaking is issued under the authority of the Office of Federal Procurement Policy (OFPP) Act which provides the authority for an agency head to issue agency acquisition regulations that implement or supplement the FAR. DOL is proposing to revise the DOLAR in its entirety in order to update and streamline agency procurement regulations consistent with the Federal Acquisition Reform Act, and the Federal Acquisition Streamlining Act. The proposed updates remove provisions that are redundant or obsolete and codify provisions addressing a range of matters, including: government property, continuity of operations, system requirements, records management, telework policy for contractor personnel, submission of invoices, mandatory training for contractors, organizational conflicts of interest, and changing the scope of a contract. Proposed edits have also been made to existing language for clarity and streamlining purposes and do not change the substantive meaning of those provisions. The proposed revision will also remove provisions in the current DOLAR that are DOL internal operating procedures, which need not be published in the Code of Federal Regulations in order for them to take effect, per 41 U.S.C. 1707 and FAR 1.301(b), 1.303(b). These provisions are not expected to have significant cost or administrative impact on contractors or offerors.

Codified acquisition regulations may be amended and revised only through rulemaking. The DOLAR uses the regulatory structure and arrangement of the FAR, and headings and subject areas are consistent with FAR content. The DOLAR is divided into subchapters, parts (each of which covers a separate aspect of acquisition), subparts and sections.

B. Relation of the FAR to the DOLAR

The FAR contains many requirements related to agency procurements, which will not be repeated in DOL's proposed revision of the DOLAR. If the DOLAR does not include provisions supplementing the FAR under the corresponding part or subpart, it is because the FAR language is considered sufficient. Where the DOLAR does not address a FAR subject, the FAR guidance is to be followed. The DOLAR is not by itself a complete document, as it must be read in conjunction with the FAR.

C. Purpose of the Proposed Regulatory Action

The current DOLAR was last revised effective May 27, 2004, 69 FR 22990 (April 27, 2004). The revisions proposed in this rule will, if finalized: align internal departmental guidance in the DOLAR with the FAR, remove outdated and duplicative requirements, streamline sections, remove extraneous procedural information that applies only to DOL's internal operating procedures, and incorporate new regulatory sections to align with internal agency procedures as contained in DOL policy orders and policy instructions. This rulemaking effort creates an efficient DOLAR that is more straightforward. The revised DOLAR will supersede the current regulation in its entirety.

D. Analysis

As stated above, this NPRM seeks comments on proposed changes that revise the DOLAR in its entirety. The proposed changes will remove parts which contain internal DOL policy and operating procedures, as well as parts that duplicate or adopt the FAR by reference; add parts which codify clauses that are currently prescribed for incorporation in DOL contracts, when appropriate; and rename and renumber sections to streamline the DOLAR.

The following parts of the current DOLAR are being proposed for removal because they are believed to relate to internal operating procedures of DOL and need not be published in the Federal Register (per 41 U.S.C. 1707 and FAR 1.301(b) & 1.303(b)): Part 2906—Competition Requirements; Part 2908—Required Sources of Supplies and Services; Part 2922—Application of Labor Laws to Government Acquisitions; Part 2923—Environment, Energy and Water Efficiency, Renewable Energy Technologies, Occupational Safety, and Drug-Free Workplace; Part 2929—Taxes; Part 2931—Contract Cost Principles and Procedures; and Part 2953—Forms.

The following parts of the current DOLAR are being proposed for removal because they are duplicative of the FAR, or merely adopt it by reference: Part 2910—Market Research is duplicative of FAR 6.302-1(c) and 10.002(b); Part 2912—Acquisition of Commercial items is duplicative of FAR 12.302(c); Part 2913—Simplified Acquisition Procedures is duplicative of FAR 1306-3(b) and FAR 13.307; Part 2914—Sealed Bidding is duplicative of 14.404-1(c) and (f), 14.407-3(e), 14.407-3(i), and 14.408-1; Part 2916—Contract Types is duplicative of FAR 16.505(b)(5) and 16.603-2(c); Part 2917—Special Contracting Methods duplicates and adopts by reference FAR 17.203(g)(2), FAR 17.205(a), FAR 17.207(f), and FAR 17.503; Part 2930—Cost Accounting Standards Administration adopts by reference FAR 30.201-5; Part 2936—Construction and Architect-Engineer Contracts adopts by reference FAR 36.201, 36.209, 36.516, 63.602-1(b), 36.602-2, 36.602-3(d), 36.602-1, 36.602-5(b), 36.603, 36.604, and 36.702(c).; Part 2944—Subcontracting Policies and Procedures duplicates FAR 44.201-1(b) or FAR 44.201-2 and adopts by reference FAR 44.202-2(a)), 44.203, and 44.302(a).

DOL is proposing to codify the following 15 standard contract clauses at Part 2952, which are currently used in DOL contracts, when appropriate, but are new additions to the DOLAR: Clause 2952.201-70, Contracting Officer's Representative (COR) Clause; Clause 2952.204-70, Records Management Requirements; Clause 2952.207-70, Contractor Personnel Telework; Clause 2952.209-70, Organizational Conflict of Interest Clause—OCI-1 Exclusion From Future Agency Contracts; Clause at 2952.211-70, internet Protocol Version 6 (IPv6); Clause 2952.224-70, Privacy Breach Notification Requirements; Clause at 2952.232-70, Limitation of Government's Obligation (LoGO); Clause 2952.232.71 Submission of Invoices Clause at 2952.237-70, Emergency Continuation of Essential Services; Clause 2952.242-70, Access to Contractor Business Systems; Clause 2952.242-71, DOL Mandatory Training Requirements; Clause at 2952.243-70, Contractor's Obligation to Notify the Contracting Officer of a Request to Change the Contract Scope (Contractor's Obligation Clause); Clause at 2952.245-70, Contractor Responsibility to Report Theft of Government Property; and Clause at 2952.245-71, Asset Reporting Requirements. In addition to being codified at section 2952.39-70, the clause covering Section 508 Requirements is being revised to avoid duplication with the FAR 508 provisions and to replace a generic “508” reference with the exact CFR reference. This NPRM also proposes to add the following two new parts to the DOLAR for the sole purpose of prescribing certain of the contractual clauses described above: Part 2924—Protection of Privacy and Freedom of Information and Part 2939—Acquisition of Information Technology.

Lastly, the table below details subparts/sections that are being proposed for renaming, renumbering or both. Seven provisions also contain edits either to provide clarity, remove internal policy and procedure, or remove duplicative regulations already set forth in the FAR.

Current DOLAR provision | Proposed renaming/renumbering/edits
2901.4 Deviations from the FAR and DOLAR | Renamed: Deviations from the DOLAR.
2901.403 Individual Deviations from the FAR | Renumbered and Renamed: 2901.401 Individual Deviations from the DOLAR. Additionally, proposing to edit language regarding the process for requesting individual deviations to provide clarity.
2901.404 Class deviations | Renumbered and Renamed: 2901.402 Class deviations from the DOLAR. Additionally, proposing to edit language regarding the process for requesting class deviations to provide clarity.
PART 2902—DEFINITIONS OF WORDS AND TERMS | Renamed: PART 2902—DEFINITIONS.
Subpart 2.1 Definitions | Renumbered: 2902.1 Definitions.
Subpart 2903.1—Safeguards | Renamed: Subpart 2903.1 Definitions.
2903.101 Standards of Conduct | Renamed: 2903.101 Definitions.
2903.101-1 General | Renamed: 2903.101-1 Definitions. Also proposing to define Agency Ethics Official and remove instructions to DOL acquisition personnel on where to find statutory prohibitions, which are contained in internal policy and procedure.
2942.101 Policy | Renamed: 2942.101 Contract Audit Responsibilities. The proposed change will change this into simply a heading and proposes to eliminate the internal procedure for the establishment of billing rates and indirect cost rates since it is prescribed in FAR 42.7.
2945.104 Review and correction of contractors' property control systems | Renamed: 2945.104 Responsibility and Liability for Government Property. The proposed change will transform this into simply a heading and proposes to eliminate procedures for the review of a contractor's property control system, because it is established in internal policy and procedure.
2945.105 Records of Government property | Renamed: Contractors' property management system compliance. The proposed change will transform this into simply a heading and proposes to eliminate internal process related to Government furnished Property (GFP) files maintained by the CO, because these procedures are located in internal policy and procedure.
2952.201-70 Contracting Officer's Technical Representative (COTR) | Renamed: 2952.201-70 Contracting Officer's Representative (COR) Clause. Proposes to update to the most recent version of this clause where only paragraph (a) is proposed to establish issuance of COR delegation memo upon contract awards. No change to paragraphs (b), and (c).

Attached to this rule is an Appendix that provides a complete list of the sections/sub-sections of the DOLAR that are being removed, renamed, or added. The table above and the Appendix will not be codified.

III. Regulatory Certifications

Executive Orders 12866 (Regulatory Planning and Review) and 13563 (Improving Regulation and Regulatory Review)

This regulation has been drafted and reviewed in accordance with Executive Orders 12866 and 13563. This rule is primarily limited to agency organization, management and personnel as described by E.O. 12866, section 3(d)(3) and, thus, is not a “regulation” as defined by that Executive Order. Executive Orders 12866 and 13563 direct agencies to assess all costs and benefits of available regulatory alternatives. DOL has examined the economic, budgetary, and policy implications of its regulatory action, and has determined that the impact on the public is minimal. The regulation mainly relates to internal DOL policies and procedures that do not impact the public, and otherwise addresses certain rules governing private entities doing business with DOL that likewise do not materially impact the public.

Regulatory Flexibility Act/Small Business Regulatory Enforcement Fairness Act

The Regulatory Flexibility Act (RFA), at 5 U.S.C. 603(a), requires agencies to prepare and make available for public comment an initial regulatory flexibility analysis, which describes the impact of the proposed Rule on small entities. Section 605 of the RFA allows an agency to certify a Rule, in lieu of preparing an analysis, if the proposed rulemaking is not expected to have a significant economic impact on a substantial number of small entities. This proposed rule seeks to streamline DOL's procurement regulation by removing obsolete provisions, codifying currently in use clauses, removing provisions which are located in internal policy or the FAR, and edits that do not have a substantive impact on the regulation. Therefore, this proposed rule does not affect small entities as defined in the RFA and will not have a significant economic impact on a substantial number of these small entities. As a result, no regulatory flexibility analysis is required here.

Paperwork Reduction Act

The Paperwork Reduction Act of 1995 (44 U.S.C. 3507(d)) requires that DOL consider the impact of paperwork and other information collection burdens imposed on the public. DOL has determined that this rule does not alter any information collection burdens.

Executive Order 13132 (Federalism)

Section 6 of E.O. 13132 requires Federal agencies to consult with State entities when a regulation or policy may have a substantial direct effect on the States, the relationship between the National Government and the States, or the distribution of power and responsibilities among the various levels of government, within the meaning of the E.O. Section 3(b) of the E.O. further provides that Federal agencies must implement regulations that have a substantial direct effect only if statutory authority permits the regulation and it is of national significance.

This proposed rulemaking revises the DOLAR which is DOL's regulation to implement the FAR and to supplement the FAR when coverage is needed for subject matter not covered in the FAR. Because the DOLAR primarily addresses internal operating procedure, we have determined that it does not have sufficient federalism implications to warrant the preparation of a Federalism Assessment, as set forth in E.O. 13132.

Unfunded Mandates Reform Act of 1995

This regulatory action has been reviewed in accordance with the Unfunded Mandates Reform Act of 1995 (the Reform Act). Under the Reform Act, a Federal agency must determine whether a regulation proposes a Federal mandate that would result in the increased expenditures by State, local, or tribal governments, in the aggregate, or by the private sector, of $100 million or more in any single year. This proposed rule primarily makes administrative changes with respect to federal procurement administration. The requirements of Title II of the Act, therefore, do not apply, and DOL has not prepared a statement under the Act.

Executive Order 13175 (Indian Tribal Governments)

DOL has reviewed the NPRM under the terms of E.O. 13175 and DOL's Tribal Consultation Policy and have concluded that the changes to regulatory text which are the focus of the NPRM would not have tribal implications, as these changes do not have substantial direct effects on one or more Indian tribes, the relationship between the Federal government and Indian tribes, nor the distribution of power and responsibilities between the Federal government and Indian tribes. Therefore, no consultations with tribal governments, officials, or other tribal institutions were necessary.

List of Subjects

48 CFR Parts 2901, 2902, 2905, 2907, 2909, 2911, 2915, 2932, 2937, 2942, 2943

Government procurement, Government contracts.

48 CFR Part 2903

Government procurement, Government contracts, Conflicts of interest.

48 CFR Part 2904

Government procurement, Government contracts, Reporting and recordkeeping requirements.

48 CFR Part 2919

Government procurement, Government contracts, Small businesses, Minority businesses.

48 CFR Parts 2924

Government procurement, Government contracts, Privacy, Freedom of information, Administrative practice, and procedure.

48 CFR Parts 2928

Government procurement, Government contracts, Surety bonds, Insurance, bonds.

48 CFR Parts 2933

Government procurement, Government contracts, Administrative practice and procedures, Claims.

48 CFR Parts 2939

Government procurement, Government contracts, Computer technology.

48 CFR Parts 2945

Government procurement, Government contracts, Government property, Government property management.

48 CFR Parts 2952

Government procurement, Government contracts, Government property, telework, internet, telecommunications, Reporting and recordkeeping requirements, Privacy, Administrative practice and procedure, Conflict of interests, Individuals with disabilities.

For the reasons discussed in the preamble, DOL proposes to revise 48 CFR Chapter 29 to read as follows:

CHAPTER 29—DEPARTMENT OF LABOR

SUBCHAPTER A—GENERAL
PART 2900—PART 2900 [RESERVED]
PART 2901—DEPARTMENT OF LABOR ACQUISITION REGULATION SYSTEM
PART 2902—DEFINITIONS
PART 2903—IMPROPER BUSINESS PRACTICES AND PERSONAL CONFLICTS OF INTEREST
PART 2904—ADMINISTRATIVE MATTERS
SUBCHAPTER B—ACQUISITION PLANNING
PART 2905—PUBLICIZING CONTRACT ACTIONS
PART 2906—PART 2906 [RESERVED]
PART 2907—ACQUISITION PLANNING
PART 2908—PART 2908 [RESERVED]
PART 2909—CONTRACTOR QUALIFICATIONS
PART 2910—PART 2910 [RESERVED]
PART 2911—DESCRIBING AGENCY NEEDS
PART 2912—PARTS 2912-2913 [RESERVED]
SUBCHAPTER C—CONTRACTING METHODS AND CONTRACT TYPES
PART 2914—PART 2914 [RESERVED]
PART 2915—CONTRACTING BY NEGOTIATION
PART 2916—PARTS 2916-2917 [RESERVED]
SUBCHAPTER D—SOCIOECONOMIC PROGRAMS
PART 2918—PART 2918 [RESERVED]
PART 2919—SMALL BUSINESS AND SMALL DISADVANTAGED BUSINESS CONCERNS
PART 2920—PARTS 2920-2923 [RESERVED]
PART 2924—PROTECTION OF PRIVACY AND FREEDOM OF INFORMATION
PART 2925—PARTS 2925-2927 [RESERVED]
SUBCHAPTER E—GENERAL CONTRACTING REQUIREMENTS
PART 2928—BONDS AND INSURANCE
PART 2929—PARTS 2929-2931 [RESERVED]
PART 2932—CONTRACT FINANCING
PART 2933—PROTESTS, DISPUTES, AND APPEALS
PART 2934—PARTS 2934-2936 [RESERVED]
PART 2937—SERVICE CONTRACTING-GENERAL
SUBCHAPTER F—SPECIAL CATEGORIES OF CONTRACTING
PART 2938—PART 2938 [RESERVED]
PART 2939 ACQUISITION OF INFORMATION TECHNOLOGY
PART 2940—PARTS 2940-2941 [RESERVED]
SUBCHAPTER G—CONTRACT MANAGEMENT
PART 2942—CONTRACT ADMINISTRATION AND AUDIT SERVICES
PART 2943—CONTRACT MODIFICATIONS
PART 2944—PART 2944 [RESERVED]
PART 2945—GOVERNMENT PROPERTY
PART 2946—PARTS 2946-2951 [RESERVED]
SUBCHAPTER H—CLAUSE AND FORMS
PART 2952—SOLICITATION PROVISIONS AND CONTRACT CLAUSES
PART 2953—PART 2953 [RESERVED]
PART 2954—PART 2954-2999 [RESERVED]

SUBCHAPTER A—GENERAL

PART 2900 [RESERVED]

PART 2901—DEPARTMENT OF LABOR ACQUISITION REGULATION SYSTEM

Subpart 2901.0—Scope of Subpart

2901.001 Scope of subpart.

Subpart 2901.1—Purpose, Authority, Issuance

2901.101 Purpose.

2901.103 Authority.

2901.105 Issuance.

2901.105-1 Publication and code arrangement.

2901.105-2 Arrangement of regulations.

2901.105-3 Copies.

Subpart 2901.3—Agency Acquisition Regulations

2901.304 Agency control and compliance procedures.

Subpart 2901.4—Deviations from the DOLAR

2901.401 Individual Deviations from the DOLAR.

2901.402 Class deviations from the DOLAR.

Subpart 2901.6 Career Development, Contracting Authority, and Responsibilities

2901.602 Contracting Officers.

2901.602-1 Authority

2901.602-70 Contract Clause.

Subpart 2901.7—Determinations and Findings

2901.707 Signatory Authority.

Authority: 5 U.S.C. 301, 40 U.S.C. 486(c).

Subpart 2901.0—Scope of Subpart

2901.001 Scope of Subpart.

This chapter may be referred to as the Department of Labor Acquisition Regulation DOLAR. This subpart sets forth introductory information about the DOLAR. This subpart explains the relationship of the DOLAR to the FAR and explains the DOLAR's purpose, authority, applicability, exclusions, and issuance.

Subpart 2901.1—Purpose, Authority, Issuance

2901.101 Purpose.

(a) This chapter contains the DOLAR. The DOLAR is established within the FAR System, at Title 48 of the Code of Federal Regulations (CFR).

(b) The purpose of the DOLAR is to implement and supplement the FAR in accordance with FAR Subpart 1.3 and authorities cited therein. The DOLAR is not by itself a complete document, as it must be used in conjunction with the FAR.

2901.103 Authority.

The DOLAR is issued pursuant to the authority of the Secretary of Labor under 5 U.S.C. 301 and 40 U.S.C. 486(c). This authority has been delegated to the Assistant Secretary for Administration and Management in accordance with FAR 1.301(d)(3).

2901.105 Issuance.

2901.105-1 Publication and code arrangement.

The DOLAR is published in the CFR, as Chapter 29 of Title 48.

2901.105-2 Arrangement of regulations.

(a) Where the DOLAR implements the FAR, the implementing part, subpart, section, or subsection of the DOLAR is numbered and captioned, to the extent feasible, the same as the FAR part, subpart, section, or subsection being implemented, except that the section or subsection being implemented is preceded with a “29” or a “290” such that there will always be four numbers to the left of the first decimal. For example, the DOLAR implementation of FAR 2.101 is 2902.101.

(b) The DOLAR may have gaps in its numbering scheme because a FAR rule may not require DOLAR implementation.

2901.105-3 Copies.

Copies of the DOLAR published in the Federal Register or the CFR may be purchased from the Superintendent of Documents, Government Printing Office, Washington, DC 20402. Requests should reference the DOLAR as chapter 29 of title 48. The DOLAR is also available electronically at the Government Printing Office web page, http://www.ecfr.gov/. The CFR is printed in paperback edition with updates as needed.

Subpart 2901.3—Agency Acquisition Regulations

2901.304 Agency control and compliance procedures.

The DOLAR is under the direct oversight of the Department of Labor's (DOL) Senior Procurement Executive (SPE) or designee.

Subpart 2901.4—Deviations From the DOLAR

2901.401 Individual Deviations from the DOLAR.

Individual deviations affect only one contract action. Except for individual deviations referenced in FAR 1.405(e), the SPE is authorized to approve individual deviations from FAR provisions (see FAR 1.403) or from DOLAR provisions.

2901.402 Class deviations from the DOLAR.

(a) Class deviations affect more than one contract action. If DOL believes that it will require a class deviation on a permanent basis, it will propose a FAR revision per FAR 1.404.

(b) The SPE is authorized to approve and process class deviations from the FAR or the DOLAR, unless FAR 1.405(e) is applicable.

Subpart 2901.6—Career Development, Contracting Authority, and Responsibilities

2901.602 Contracting Officers.

2901.602-1 Authority.

Only DOL contracting officers have the authority to enter into, administer, or terminate contracts and to make related determinations and findings. DOL contracting officers may bind DOL to obligations under contracts only to the extent of the authority delegated to them.

2901.602-70 Contract Clause.

(a) Contracting officers shall insert clause 2952.201-70, Contracting Officer's Representative, in all solicitations and awards.

Subpart 2901.7—Determinations and Findings

2901.707 Signatory Authority.

Except as shown in the applicable FAR or DOLAR, or where prohibited by statute, the authority to sign or delegate signatory authority for the various determinations and findings (D&Fs) resides with the SPE, or his/her designee.

PART 2902—DEFINITIONS

Subpart 2902.1—Definitions

2902.101 Definitions.

Authority: 5 U.S.C. 301, 40 U.S.C. 486(c).

2902.101 Definitions.

The following words and terms are used as defined in this subpart unless the context in which they are used clearly requires a different meaning, or a different definition is prescribed for a particular part or portion of a part:

Head of Agency (also called agency head), for the FAR and DOLAR only, means the Assistant Secretary for Administration and Management, except that the Secretary of Labor is the Head of Agency for acquisition actions, which by the terms of a statute or delegation must be performed specifically by the Secretary of Labor; the Inspector General is the Head of Agency in all cases for the Office of the Inspector General.

Head of Contracting Activity (HCA) means the official who has overall responsibility for managing the Contracting Activity, as defined at FAR 2.101, when the Contracting Activity has more than one person duly appointed as Contracting Officers by the Senior Procurement Executive or, in the case of the Office of the Inspector General, issued by the Inspector General or his/her designee. Each Head of Agency may designate HCA(s) as appropriate to be responsible for managing Contracting Activities within his or her respective Agency.

Senior Procurement Executive (SPE), as defined in the FAR, means the individual appointed pursuant to 41 U.S.C. 1702(c) who is responsible for management direction of the acquisition system of the executive agency, including implementation of the unique acquisition policies, regulations, and standards of the executive agency. At DOL, the SPE is also the Chief Procurement Officer and DOL's Suspending and Debarment Official and is the Principal Executive responsible for the Office of the Senior Procurement Executive (OSPE).

PART 2903—IMPROPER BUSINESS PRACTICES AND PERSONAL CONFLICTS OF INTEREST

Subpart 2903.1 Definitions
2903.101 Definitions.
2903.101-1 Definitions.
Subpart 2903.2—Contractor Gratuities to Government Personnel
2903.203 Reporting suspected violations of the Gratuities clause.
2903.204 Treatment of violations.
Subpart 2903.7—Authority
2903.703 Authority.

Authority: 5 U.S.C. 301, 40 U.S.C. 486(c).

Subpart 2903.1—Definitions

2903.101 Definitions.

2903.101-1 Definitions.

Agency ethics official means the Solicitor of Labor or the Associate Solicitor for Legal Counsel or other official as designated by the Solicitor of Labor.

Subpart 2903.2—Contractor Gratuities to Government Personnel

2903.203 Reporting suspected violations of the Gratuities clause.

Contractor gratuities offered to government personnel are subject to the restriction under the Standards of Ethical Conduct for Employees of the Executive Branch, 5 CFR part 2635.

2903.204 Treatment of violations.

Any suspected violations of FAR subpart 3.2 and the clause at FAR 52.203-3, Gratuities, must be reported to the Office of the Inspector General. The authority to determine whether a violation of the Gratuities clause by the contractor, its agent, or another representative has occurred, and the appropriate remedies, are delegated to the HCA.

Subpart 2903.7—Authority

2903.703 Authority.

Pursuant to FAR 3.703 and 3.705(b), the authority to void or rescind contracts is delegated to the SPE.

PART 2904—ADMINISTRATIVE MATTERS

Subpart 2904.7—Contractor Records Retention
2904.703 Policy.
2904.703-70 Contract Clause.

Authority: 5 U.S.C. 301, 40 U.S.C. 486(c).

Subpart 2904.7—Contractor Records Retention

2904.703 Policy.

2904.703-70 Contract Clause.

The contracting officer shall insert the clause at DOLAR 2952.204-70, Records Management Requirements, in all solicitations and contracts in which the contractor creates, works with, or otherwise handles federal records, as defined in subsection (a) of the clause at DOLAR 2952.204-70, regardless of the medium in which the record exists.

SUBCHAPTER B—ACQUISITION PLANNING

PART 2905—PUBLICIZING CONTRACT ACTIONS

Subpart 2905.2—Synopsis of Proposed Contract Actions
2905.202 Exceptions.

Authority: 5 U.S.C. 301; 40 U.S.C. 486(c).

Subpart 2905.2—Synopsis of Proposed Contract Actions

2905.202 Exceptions.

The Assistant Secretary for Administration and Management is authorized to make the determination prescribed in FAR 5.202(b), subject to the consultation requirements therein.

PART 2907—ACQUISITION PLANNING

Subpart 2907.1—Acquisition Plans
2907.101 Consolidation.
2907.108 Additional Requirements for Telecommuting.
2907.108-70 Contract Clause.

Authority: 5 U.S.C. 301; 40 U.S.C. 486(c).

Subpart 2907.1 Acquisition Plans

2907.101 Consolidation.

The SPE shall make the determination to approve consolidation per FAR 7.107-2.

2907.108 Additional Requirements for Telecommuting.

2907.108-70 Contract Clause

(a) Contracting officers shall insert the clause at DOLAR 2952.207-70, Contractor Personnel Telework, in all solicitations and contracts for services, including construction services.

PART 2909—CONTRACTOR QUALIFICATIONS

Subpart 2909.3 Definitions
2909.301 Definitions.

Subpart 2909.5—Organizational and Consultant Conflicts of Interest

2909.503 Waiver.

2909.507-70 Contract Clause.

Authority: 5 U.S.C. 301; 40 U.S.C. 486(c).

Subpart 2909.3 Definitions

2909.301 Definitions.

At DOL, the debarring official is the SPE.

At DOL, the suspending official is the SPE.

Subpart 2909.5—Organizational and Consultant Conflicts of Interest

2909.503 Waiver.

(a) The Secretary of Labor delegates to the SPE the authority to waive any general rule or procedure in FAR Subpart 9.5 when its application in a particular situation would not be in the Government's best interest. In making determinations under this subpart the SPE shall consult with the Office of the Solicitor.

(b) The relevant HCA must make the request for such a waiver in writing to the SPE who will consult with the Agency Head with respect to each waiver request. Each request must include:

(1) An analysis of the facts involving the potential or actual conflict, the nature and extent of the conflict, including benefits and costs to the Government and prospective contractors of granting the request;

(2) An explanation of the measures taken to avoid, neutralize, and mitigate the conflict, if any; and

(c) Identification of the provision(s) in FAR 9.5 to be waived.

2909.507-70 Contract Clause.

(a) Contracting officers shall insert the clause at DOLAR 2952.209-70, Organizational Conflict of Interest Clause—OCI-1 Exclusion from Future Agency Contracts, in all solicitations and contracts for services, including construction services and architectural and engineering services, and any other contract to which the Contractor Officer deems the clause to be applicable.

PART 2911—DESCRIBING AGENCY NEEDS

Subpart 2911.002 Policy
2911.002-1 Contract Clauses.

Authority: 5 U.S.C. 301; 40 U.S.C. 486(c).

Subpart 2911.002 Policy

2911.002-1 Contract Clause.

(a) In accordance with FAR 11.002(g), FAR 12.202(e), and FAR 39.101(d), the contracting officer shall insert the clause at DOLAR 2952.211-70, Internet Protocol Version 6 (IPv6) Clause, in all solicitations/awards when acquiring information technology products or services that are expected to exceed the micro-purchase threshold.

SUBCHAPTER C—CONTRACTING METHODS AND CONTRACT TYPES

PART 2915—CONTRACTING BY NEGOTIATION

Subpart 2915.6—Unsolicited Proposals
2915.604 Agency points of contact.
2915.605 Content of unsolicited proposals.

Authority: 5 U.S.C. 301; 40 U.S.C. 486(c).

Subpart 2915.6—Unsolicited Proposals

2915.604 Agency points of contact.

(a) The Director of Strategy and Administration within the OSPE shall be the point of contact for receipt of unsolicited proposals. This responsibility may be delegated by the Director of S&A. Only the cognizant contracting officer has the authority to bind the Government by accepting an unsolicited proposal.

(b) The OSPE Director of Strategy and Administration is responsible for handling unsolicited proposals to ensure that unsolicited proposals are controlled, evaluated, safeguarded, and disposed of in accordance with FAR 15.6.

(c) The OSPE Director of Strategy and Administration may not consider an unsolicited proposal if the proposal resembles an upcoming solicitation or a procurement identified in the current annual acquisition plan.

2915.605 Content of unsolicited proposals.

In addition to the contents required by FAR 15.605, unsolicited proposals for research should contain a commitment by the offeror to include cost-sharing or should represent a significant cost savings to DOL.

SUBCHAPTER D—SOCIOECONOMIC PROGRAMS

PART 2919 SMALL BUSINESS AND SMALL DISADVANTAGED BUSINESS CONCERNS

Subpart 2919.2—Policies
2919.201 General Policy.

Authority: 5 U.S.C. 301; 40 U.S.C. 486(c).

Subpart 2919.2—Policies

2919.201 General Policy.

The management of small and disadvantaged business utilization programs at DOL is the responsibility of the Program Manager of the Office of Small and Disadvantaged Business Utilization (OSDBU), within the OSPE. All DOL acquisition officials are responsible for providing opportunities to small businesses and small disadvantaged businesses in DOL acquisitions, in compliance with law, directives, and the FAR. Further information can be found at the OSDBU website, currently accessible at https://www.dol.gov/agencies/oasam/centers-offices/office-of-the-senior-procurement-executive/office-of-small-and-disadvantaged-business-utilization.

PART 2924—PROTECTION OF PRIVACY AND FREEDOM OF INFORMATION

Subpart 2924-1 Protection of Individual Privacy
2924.103 Procedures.
2924-103-70 Contract Clause.

Authority: 5 U.S.C. 301; 40 U.S.C. 486©.

Subpart 2924.1 Protection of Individual Privacy

2924.103 Procedures.

2924.103-70 Contract Clause.

(a) Contracting officers shall insert the clause at DOLAR 2952.224-70, Privacy Breach Notification Requirements, in all solicitations and contracts except solicitations and contracts that are solely for the acquisition of commercially available off-the-shelf items.

SUBCHAPTER E—GENERAL CONTRACTING REQUIREMENTS

PART 2928—BONDS AND INSURANCE

Subpart 2928.106 Administration
106-6 Furnishing information.
Subpart 2928.2—Sureties and Other Security for Bonds
2928.203 Acceptability of individual sureties.

Authority: 5 U.S.C. 301; 40 U.S.C. 486(c).

Subpart 2928.106 Administration

2928.106-6 Furnishing information.

The HCA or designee performs the functions outlined in FAR 28.106-(c).

Subpart 2928.2—Sureties and Other Security for Bonds

2928.203 Acceptability of individual sureties.

Contracting officers must refer evidence of possible criminal or fraudulent activities by an individual surety to the Office of Inspector General.

PART 2932—CONTRACT FINANCING

Subpart 2932.4—Advance Payments for Non-Commercial Items
2932.408 Applicability of Interest on Advance Payments.
Subpart 2932.5 Progress Payments Based on Costs
2932.501-2 Unusual progress payments.
2932.503-6 Suspension or reduction of payments.

Subpart 2932.7 Contract Funding

2932.703 Contract funding requirements.

2932.703-70 Contract Clause.

Subpart 2932.9 Prompt Payment

2932.908 Contract Clause.

Authority: 5 U.S.C. 301; 40 U.S.C. 486(c).

Subpart 2932.4—Advance Payments for Non-Commercial Items

2932.408 Applicability of Interest on Advance Payments.

After consulting with the SPE, the HCA may authorize advance payments without interest pursuant to FAR 32.407.

Subpart 2932.5 Progress Payments Based on Costs

2932.501-2 Unusual progress payments.

After consulting with the SPE, the HCA may approve requests for “unusual” progress payments.

2932.503-6 Suspension or reduction of payments.

Any action of a contracting officer under FAR 32.503-6 requires approval in advance from the HCA. Upon receipt of approval from the HCA, the contracting officer shall request the contract finance office to suspend or reduce payments.

Subpart 2932.7 Contract Funding

2932.703 Contract funding requirements.

2932.703-70 Contract Clause.

(a) Contracting officers shall insert the clause at DOLAR 2952.232-70, Limitation of Government's Obligation (LoGO), in all solicitations and contracts for severable services.

Subpart 2932.9 Prompt Payment

2932.908 Contract Clause.

(a) Contracting Officers shall insert the clause at DOLAR 2952.232-71, Submission of Invoices, in all solicitations and contracts.

PART 2933—PROTESTS, DISPUTES, AND APPEALS

Subpart 2933.1—Protests
2933.102 General.
2933.103 Protests to the agency.
2933.104 Protests to GAO.
Subpart 2933.2—Disputes and Appeals
2933.203 Applicability.
2933.209 Suspected fraudulent claims.
2933.212 Contracting officer's duties upon appeal.

Authority: 5 U.S.C. 301; 40 U.S.C. 486(c); E.O. 12979, 60 FR 55171, 3 CFR, 1995 Comp., p. 417.

Subpart 2933.1—Protests

2933.102 General.

(1) The relevant contracting officer coordinates DOL's response to procurement protests filed with the U.S. Government Accountability Office (GAO), in consultation with DOL legal counsel at the Office of the Solicitor.

(2) The authority of the Agency Head under FAR 33.102(b) to determine that a solicitation, proposed award, or award does not comply with the requirements of law or regulation is delegated to the HCA.

2933.103 Protests to the agency.

(a) The relevant contracting officer shall be the point of contact for agency-level protests. Upon receipt of an agency level protest, the contracting officer immediately notifies the Director of Strategy and Administration within the OSPE and the Office of the Solicitor of the protest,

(b) OSPE's Director of Strategy and Administration is the Agency Protest Official.

2933.104 Protests to GAO.

(a) Protests before award. The authority of the relevant HCA under FAR 33.104(b) to authorize a contract award when the agency has received notice from the GAO of a protest filed directly with the GAO is nondelegable. In coordination with SOL, the HCA prepares the written finding with the information required by FAR 33.104(b)(1). Protests after award. The authority of the HCA under FAR 33.104(c) to authorize contract performance when the agency has received notice from the GAO of a protest filed directly with the GAO is nondelegable. In coordination with the Office of the Solicitor, the HCA prepares and provides to the GAO the written finding with the information required by FAR 33.104(c)(2).

(b) Notice to the GAO. The authority of the HCA under FAR 33.104(g), to report to the GAO the failure to fully implement the GAO recommendations with respect to a solicitation for a contract or an award or a proposed award of a contract within 60 days of receiving the GAO recommendations, is nondelegable. The written notice must be coordinated with the Office of the Solicitor.

Subpart 2933.2—Disputes and Appeals

2933.203 Applicability.

The authority of the Agency Head for action under FAR Subpart 33.2 is delegated to the SPE.

2933.209 Suspected fraudulent claims.

The contracting officer must refer all matters relating to suspected fraudulent claims by a contractor under the conditions in FAR 33.209 to the Office of the Inspector General for further action or investigation.

2933.212 Contracting officer's duties upon appeal.

(a) When a notice of appeal to the Civilian Board of Contract Appeals has been received, the contracting officer must record the date of mailing (or the date of receipt if the notice was not mailed). The contracting officer must also immediately notify the Office of the Solicitor of the appeal.

(b) The contracting officer should prepare and transmit the administrative file to the Office of the Solicitor and assist the Office of the Solicitor in the defense of the appeal and related matters.

PART 37 SERVICE CONTRACTING—GENERAL

Subpart 2937.1 Service Contract—General
2937.110 Contract Clause.

Authority: 5 U.S.C. 301, 40 U.S.C. 486(c).

Subpart 2937.1 Service Contract—General

2937.110 Contract Clause.

(a) Contracting officers shall insert the clause at DOLAR 2952.237-70, Emergency Continuation of Essential Services, in all solicitations and contracts that support essential functions identified in agency continuity plans.

SUBCHAPTER F—SPECIAL CATEGORIES OF CONTRACTING

PART 2939—ACQUISITION OF INFORMATION TECHNOLOGY

Subpart 2939.2—Information and Communication Technology
2939.2-70 Contract Clause.

Authority: 29 U.S.C. 794, 36 CFR 1194.1.

Subpart 2939.2—Information and Communication Technology

2939.2-70 Contract Clause.

(a) Contracting officers shall insert the clause at DOLAR 2952.239-70, Section 508 Requirements, in all solicitations and contracts for the acquisition of Information and Communication Technology (ICT) to be used by the DOL.

SUBCHAPTER G—CONTRACT MANAGEMENT

PART 2942—CONTRACT ADMINISTRATION AND AUDIT SERVICES

Subpart 2942.1 Contract Audit Services
2942.101 Contract Audit Responsibilities.
2942.101-70 Contract Clause.

Authority: 5 U.S.C. 301, 40 U.S.C. 486(c).

Subpart 2942.1—Contract Audit Services

2942.101 Contract audit responsibilities.

(a) Contracting officers shall insert the clause at DOLAR 2952.242-70, Access to Contractor Business Systems, in all solicitations and contracts that include a covered contractor system, which is a system that is owned by, or operated by or for, a contractor that processes, stores, or transmits Federal information.

2942.101-70 Contract Clause.

(a) Contracting officers shall insert the clause at DOLAR 2952.242-71, DOL Mandatory Training Requirements for Contractor Employees, in all solicitations and contracts for services, including construction services.

PART 2943—CONTRACT MODIFICATIONS

Subpart 2943.1 General
2943.104 Notification of contract changes.
2943.104-70 Contract Clause.
Authority: 5 U.S.C. 301; 40 U.S.C. 486(c).
Subpart 2943.1 General
2943.104 Notification of contract changes.
2943.104-70 Contract Clause.
(a) Contracting officers shall insert the clause at DOLAR 2952.243-70, Contractor's Obligation to Notify the Contracting Officer of a Request to Change the Contract Scope (Contractor's Obligation Clause), in all solicitations and contracts.

PART 2945—GOVERNMENT PROPERTY

Subpart 2945.1 General
2945.104 Responsibility and Liability for Government Property
2945.104-70 Contract clause.
Subpart 2945.105 Contractors' Property Management System Compliance
2945.105-70 Contract clause.

Authority: 5 U.S.C. 301; 40 U.S.C. 486(c).

Subpart 2945.1 General

2045.104 Responsibility and liability for Government Property

2945.104-70 Contract Clause.

(a) Contracting officers shall insert the clause at DOLAR 2952.245-70, Contractor Responsibility to Report Theft of Government Property, in all solicitations and contracts that contain FAR clause 52.245-1, Government Property.

Subpart 2945.105 Contractors' Property Management System Compliance

2945.105-70 Contract Clause.

(a) Contracting officers shall insert the clause at DOLAR 2952.245-71, Asset Reporting Requirements, in all solicitations and contracts for the acquisition of Accountable Property to increase the management and tracking of high-value government assets.

SUBCHAPTER H—CLAUSE AND FORMS

PART 2952—SOLICITATION PROVISIONS AND CONTRACT CLAUSES

Subpart 2952.2—Text of Provisions and Clauses
2952.201-70 Contracting Officer's Representative (COR) Clause.
2952.204-70 Records Management Requirements.
2952.207-70 Contractor Personnel Telework.
2952.209-70 Organizational Conflict of Interest Clause—OCI-1 Exclusion From Future Agency Contracts.
2952.211-70 Internet Protocol Version 6 (IPv6) Clause.
2952.224-70 Privacy Breach Notification Requirements.
2952.232-70 Limitation of Government's Obligation (LoGO).
2952.232-71 Submission of Invoices.
2952.237-70 Emergency Continuation of Essential Services.
2952.239-70 Section 508 Requirements.
2952.242-70 Access to Contractor Business Systems.
2952.242-71 DOL Mandatory Training Requirements for Contractor Employees.
2952.243-70 Contractor's Obligation to Notify the Contracting Officer of a Request to Change the Contract Scope (Contractor's Obligation Clause).
2952.245-70 Contractor Responsibility to Report Theft of Government Property.
2952.245-71 Asset Reporting Requirements.

Authority: 5 U.S.C. 301; 40 U.S.C. 486(c).

Subpart 2952.2—Text of Provisions and Clauses

2952.201-70 Contracting Officer's Representative (COR) Clause.

As prescribed in 2901.602-70, insert the following clause:

Contracting Officer's Representative (COR) Clause (SEPTEMBER 2014)

(a) A Contracting Officer's Representative (COR) will be delegated upon award. A copy of the delegation memorandum will be provided to the COR and a delegation letter sent to the vendor.

(b) The COR, is responsible as applicable for: receiving all deliverables; inspecting and accepting the supplies or services provided hereunder in accordance with the terms and conditions of this contract; providing direction to the contractor which clarifies the contract effort, fills in details or otherwise serves to accomplish the contractual scope of work; evaluating performance; and certifying all invoices/vouchers for acceptance of the supplies or services furnished for payment.

(c) The COR does not have the authority to alter the contractor's obligations under the contract, and/or modify any of the expressed terms, conditions, specifications, or cost of the agreement. If, as a result of technical discussions, it is desirable to alter/change contractual obligations or the scope of work, the contracting officer must issue such changes.

(End of Clause)

2952.204-70 Records Management Requirements.

(a) As prescribed in 2904.703-70, insert the following clause:

Records Management Requirements (August 2018)

A. Definitions

“Federal record” as defined in 44 U.S.C. 3301, includes all recorded information, regardless of form or characteristics, made or received by a federal agency under federal law or in connection with the transaction of public business and preserved or appropriate for preservation by that agency or its legitimate successor as evidence of the organization, functions, policies, decisions, procedures, operations, or other activities of the United States Government or because of the informational value of data in them.

The term federal record:

(a) Includes DOL records.

(b) Does not include personal materials.

(c) Applies to records created, received, or maintained by contractors pursuant to their DOL contract.

(d) May include deliverables and documentation associated with deliverables.

B. Requirements

(a) Contractor shall comply with all applicable records management laws and regulations, as well as National Archives and Records Administration (NARA) records policies, including but not limited to, the Federal Records Act (44 U.S.C. chs. 21, 29, 31, 33), NARA regulations at 36 CFR Chapter XII Subchapter B, and those policies associated with the safeguarding of records covered by the Privacy Act of 1974 (5 U.S.C. 552a). These policies include the preservation of all records, regardless of form or characteristics, mode of transmission, or state of completion.

(b) In accordance with 36 CFR 1222.32(b), all data created for Government use and delivered to, or falling under the legal control of, the Government are federal records subject to the provisions of 44 U.S.C. chapters 21, 29, 31, and 33, the Freedom of Information Act (FOIA) (5 U.S.C. 552), as amended, and the Privacy Act of 1974 (5 U.S.C. 552a), as amended and must be managed and scheduled for disposition only as permitted by statute or regulation.

(c) In accordance with 36 CFR 1222.32, contractor shall maintain all records created for government use or created in the course of performing the contract and/or delivered to, or under the legal control of the Government and must be managed in accordance with federal law. Electronic records and associated metadata must be accompanied by sufficient technical documentation to permit understanding and use of the records and data.

(d) DOL and its contractors prevent the alienation or unauthorized destruction of records, including all forms of mutilation. Records may not be removed from the legal custody of DOL or destroyed except for in accordance with the provisions of the applicable agency schedules and with the written concurrence of the Head of the Contracting Activity in consultation with the Agency Records Officer. Willful and unlawful destruction, removal, damage, or alienation of federal records is subject to the fines and penalties imposed by 18 U.S.C. 2701. In the event of any unlawful or accidental removal, defacing, alteration, or destruction of records, contractor must report to DOL. The agency must report the incident directly to their Agency Records Officer. The Agency Records Officer will engage the Departmental Records Officer who will follow procedures promptly to report to NARA in accordance with 36 CFR 1230.

(e) The contractor shall immediately notify the appropriate contracting officer upon discovery of any inadvertent or unauthorized disclosures of information, data, documentary materials, records, or equipment. Disclosure of non-public information is limited to authorized personnel with a need-to-know as described in the contract. The contractor shall ensure that the appropriate personnel, administrative, technical, and physical safeguards are established to ensure the security and confidentiality of this information, data, documentary material, records and/or equipment is properly protected. The contractor shall not remove material from government facilities or systems, or facilities or systems operated or maintained on the Government's behalf, without the express written permission of the Head of the Contracting Activity. When information, data, documentary material, records, and/or equipment is no longer required, it shall be returned to DOL's control, or the contractor must hold it until otherwise directed. Items returned to the Government shall be hand carried, mailed, emailed, or securely electronically transmitted to the contracting officer or address prescribed in the contract. Destruction of records is EXPRESSLY PROHIBITED unless in accordance with Paragraph (4).

(f) The contractor is required to obtain the contracting officer's approval prior to engaging in any contractual relationship (sub-contractor) in support of this contract requiring the disclosure of information, documentary material, and/or records generated under, or relating to, contracts. The contractor (and any sub-contractor) is required to abide by government and DOL guidance for protecting sensitive, proprietary information, classified, and controlled unclassified information.

(g) The contractor shall only use government IT equipment for purposes specifically tied to or authorized by the contract and in accordance with DOL policy.

(h) The contractor shall not create or maintain any records containing any non-public DOL information that are not specifically tied to or authorized by the contract.

(i) The contractor shall not retain, use, sell, or disseminate copies of any deliverable that contains information covered by the Privacy Act of 1974 or that which is generally protected from public disclosure by an exemption to the Freedom of Information Act.

(j) [Insert the following if no other data rights clause has been included in the contract] The DOL owns the rights to all data and records produced as part of this contract. All deliverables under the contract are the property of the U.S. Government for which DOL shall have unlimited rights to use, dispose of, or disclose such data contained therein as it determines to be in the public interest. Any contractor rights in the data or deliverables must be identified as required by FAR 52.227-11 through FAR 52.227-20.

(k) Training. All contractor employees assigned to this contract who create, work with, or otherwise handle records are required to take the annual mandatory records management training, provided by DOL, as directed by the Contracting Officer's Representative (COR). The training shall be completed in a timeframe specified by the COR. The contractor confirms training has been completed according to agency policies, including initial training and any annual or refresher training.

C. Flow Down of Requirements to Subcontractors

(a) The contractor shall incorporate the substance of this clause, its terms, and requirements, including this paragraph, in all subcontracts under this contract and require written subcontractor acknowledgment of same.

(b) Violation by a subcontractor of any provision set forth in this clause will be attributed to the contractor.

(End of Clause)

2952.207-70 Contractor Personnel Telework.

As prescribed in 2907.108-70, insert the following clause:

Contractor Personnel Telework (October 2021)

The Government shall not provide or reimburse contractor personnel for internet connectivity.

(End of Clause)

2952.209-70 Organizational Conflict of Interest Clause—OCI-1 Exclusion From Future Agency Contracts.

As prescribed in 2909.507-70, insert the following clause:

Organizational Conflict of Interest Clause—OCI-1 Exclusion From Future Agency Contracts (December 2012)

This clause supplements the FAR provisions on organizational conflicts of interest, located at FAR subpart 9.500 and should be read in conjunction with these provisions. To the extent there is any inconsistency or confusion between the two provisions, the FAR provision controls.

(a) Work under this contract may create a future organizational conflict of interest (OCI) that could prohibit the contractor from competing for, or being awarded, future government contracts.

The following examples illustrate situations in which organizational conflicts of interest may arise. They are not all inclusive, but will be used by the contracting officer as general guidance in individual contract situations:

(1) Unequal Access to Information. The performance of this contract may provide access to “nonpublic information,” which could provide the contractor an unfair competitive advantage in later solicitations or competitions for other DOL contracts. Such an advantage could be perceived as unfair by a competing vendor who is not given similar access to the same nonpublic information that is related to the future procurement action. If you, as a contractor, in performing this contract, obtain nonpublic information that is relevant to a future procurement action, you may be required to submit and negotiate an acceptable mitigation plan prior to being deemed eligible to compete on the future action. Alternatively, the “nonpublic information” may be provided to all offerors.

(2) Biased Ground Rules. Your contract with DOL may have, in some fashion, established important “ground rules” for another DOL procurement, in which you may desire to be a competitor. For example, this contract may involve you drafting the statement of work, specifications, or evaluation criteria for a future DOL procurement. The primary concern, in any such situation, is that any such firm could skew the competition, whether intentionally or not, or be perceived as having skewed the competition, in its own favor. If the requirements of this DOL contract anticipate the contractor may be placed in a position to establish important ground rules, including but not limited to those described herein, the contractor may be precluded from competing in the related action or, if possible, may be required to submit and negotiate an acceptable mitigation plan.

(3) Impaired Objectivity. The performance of this contract may result in the contractor being placed in a situation where it is able, or required, to provide assessment and evaluation findings concerning itself, another business division, a subsidiary or affiliate, or other entity with which it has a significant financial relationship. The concern in this case is that the contractor's ability to render impartial advice to DOL could appear to be undermined by the contractor's financial or other business relationship to the entity whose work product is being assessed or evaluated. In these situations, a “walling off” of lines of communication between entities or divisions may be acceptable, but it also may not be sufficient to remove the perception that the objectivity of the contractor has been tainted. If the requirements of the DOL procurement indicate that a contractor may be placed in a position to provide evaluations and assessments of itself or other entities with which it has a significant financial relationship, the affected contractor should notify DOL immediately. The contractor may also be required to provide a mitigation plan that includes recusal by the contractor from one of the affected contracts. Such recusal might include divestiture of the work to a third party.

(b) In order to prevent a future OCI of any kind, the contractor shall be subject to the following restrictions:

(1) The contractor may be excluded from competition for, or award of, any government contracts as to which, in the course of performing another contract, the contractor has received nonpublic and competitively relevant information before such information has been made generally available to other persons or firms.

(2) The contractor may be excluded from competition for, or award of, any government contract for which the contractor actually assisted or participated in the development of specifications or statements of work.

(3) The contractor may be excluded from competition for or award of, any government contract which calls for it to evaluate itself, any affiliate, or any products or services produced or performed thereby.

(4) The contractor may be excluded from competition for, or award of, any government contract calling for the production or performance of any product or service for which the contractor participated in the development of requirements or definitions pursuant to another contract.

(c) This clause shall not exclude the contractor from performing work under any modification to this contract or from competing for award of any future contract for work that is the same or similar to work performed under this contract, so long as the conditions above are not present. This clause does not prohibit an incumbent from competing on a follow-on competition, but the contracting officer may require a mitigation plan or other steps as needed to ensure that there has not been an unequal access to nonpublic competitively sensitive information.

(d) The term “contractor” as used in this clause, includes any person, firm or corporation that owns or controls, or is owned or controlled by, the contractor. The term also includes the corporate officers of the contractor.

(e) The agency may in its sole discretion, waive any provisions of this clause if deemed in the best interest of the Government. The exclusions contained in this clause shall apply for the duration of this contract and for three (3) years after completion and acceptance of all work performed hereunder, or such other period as the contracting officer shall direct.

(f) If any provision of this clause excludes the contractor from competition for, or award of any contract, the contractor shall not be permitted to serve as a subcontractor, at any tier, on such contract. This clause shall be incorporated into any subcontracts or consultant agreements awarded under this contract unless the contracting officer determines otherwise.

(End of Clause)

2952.211-70 Internet Protocol Version 6 (IPv6) Clause.

As prescribed in 2911.002-1, insert the following clause:

Internet Protocol Version 6 (IPv6) Clause (May 2015)

(a) Any system or product that includes: hardware, software, firmware, and/or networked components, including but not limited to, voice, video, or data that is developed, procured, or acquired in support and/or performance of this requirement shall be capable of transmitting, receiving, processing, or forwarding digital information across system boundaries that are formatted in accordance with commercial standards of internet Protocol (IP) version 6 (IPv6) as set forth in the USGv6 Profile (NIST Special Publication 500-267) and corresponding declarations of conformance defined in the USGv6 Test Program.

(b) This IPv6 capable system or product shall maintain interoperability with IPv4 systems and provide the same level of performance and reliability capabilities of IPv4 systems.

(c) This IPv6 capable system or product shall have available IPv4 and IPv6 technical support for development, implementation, and troubleshooting of the system.

(d) This IPv6 capable system or product can be upgraded, or the vendor will provide an appropriate migration path for industry-required changes to IPv6 as the technology evolves, at no additional cost to the Government.

(e) This IPv6 capable system or product must be able to operate on networks supporting IPv4 & IPv6, as well as networks that support both.

(f) Any system or product whose IPv6 non-compliance is discovered and made known to the vendor/contractor within 12 months of the start of performance shall be upgraded, modified, replaced, or brought into compliance at no additional cost to the Federal Government.

(End of Clause)

2952.224-70 Privacy Breach Notification Requirements.

As prescribed in 2924.103-70, insert the following clause:

Privacy Breach Notification Requirements (April 2018)

A. Definitions

“Breach” is defined as the loss of control, compromise, unauthorized disclosure, unauthorized acquisition, or any similar occurrence where—

(a) A person other than an authorized user accesses or potentially accesses Personally Identifiable Information (PII); or

(b) An authorized user accesses or potentially accesses PII for an unauthorized purpose.

Information” is defined as any communication or representation of knowledge such as facts, data, or opinions in any medium or form, including textual, numerical, graphic, cartographic, narrative, electronic, or audiovisual forms (See Office of Management and Budget (OMB) Circular No. A-130, Managing Federal Information as a Strategic Resource).

“Information System” is defined as a discrete set of information resources organized for the collection, processing, maintenance, use, sharing, dissemination, or disposition of information (44 U.S.C. 3502).

“Personally Identifiable Information” is defined as information that can be used to distinguish or trace an individual's identity, either alone or when combined with other information that is linked or linkable to a specific individual. (See OMB Circular No. A-130, Managing Federal Information as a Strategic Resource).

B. Requirements

(a) Contractors and subcontractors who collects or maintains federal information on behalf of the agency or uses or operates an information system on behalf of the agency, shall comply with federal law e.g., FISMA 2014, E-Government Act and the Privacy Act. Additionally, the contractor shall meet OMB directives and National Institute of Standards and Technology Standards to ensure processing of PII is adequately managed.

(b) The contractor shall:

(1) Properly encrypt PII in accordance with appropriate laws, regulations, directives, standards or guidelines;

(2) Report to DOL any suspected or confirmed breach in any medium or form, including paper, oral, and electronic within one hour of discovery;

(3) Cooperate with and exchange information with DOL (contracting officer and Contracting Officer's Representative) as well as allow for an inspection, investigation, forensic analysis, as determined necessary by the DOL, in order to effectively report and manage a suspected or confirmed breach;

(4) Maintain capabilities to determine what DOL information was or could have been compromised and by whom, construct a timeline of user activity, determine methods and techniques used to access federal information, and identify the initial attack vector;

(5) Ensure staff that have access to DOL systems or information are regularly trained to identify and report a security incident. This includes the completion of any DOL mandatory training for contractors;

(6) Take steps to address security issues that have been identified, including steps to minimize further security risks to those individuals whose PII was lost, compromised, or potentially compromised.

(7) Report incidents per DOL incident management policy and US-CERT notification guidelines.

(c) Remedy:

(1) A report of a breach shall not, by itself, be interpreted as evidence that the contractor or its subcontractor (at any tier) failed to provide adequate safeguards for PII. If the contractor is determined to be at fault for the breach, the contractor may be financially liable for government costs incurred in the course of breach response and mitigation efforts;

(2) The contractor shall take steps to address security issues that have been identified, including steps to minimize further security risks to those individuals whose PII was lost, compromised, or potentially compromised. Additionally, the individual or individuals directly responsible for the data breach shall be removed from the contract within 45 days of the breach of data; and

(3) The Government reserves the right to exercise all available contract remedies including, but not limited to, a stop-work order on a temporary or permanent basis in order to address a breach or upon discovery of a contractor's failure to report a breach as required by this clause. If the contractor is determined to be at fault for a breach, the contractor shall provide credit monitoring and privacy protection services for one year to any individual whose private information was accessed or disclosed. The individual shall be given the option, but the decision is theirs. Those services will be provided solely at the expense of the contractor and will not be reimbursed by the Federal Government.

(End of Clause)

2952.232-70 Limitation of Government's Obligation (LoGO).

As prescribed in 2932.703-70, insert the following clause:

Limitation of Government's Obligation (LoGO)—(July 2014)

(a) Contract line item(s) ($ to be determined at the exercise of each option) through ($ to be determined at the exercise of each option) are incrementally funded. For these item(s), the sum of ($ to be determined at the exercise of each option) of the total price is presently available for payment and allotted to this contract. An allotment schedule is set forth in paragraph (j) of this clause.

(b) For item(s) identified in paragraph (a) of this clause, the contractor agrees to perform up to the point at which the total amount payable by the Government, including reimbursement in the event of termination of those item(s) for the Government's convenience, approximates the total amount currently allotted to the contract. The contractor is not authorized to continue work on those item(s) beyond that point. The Government will not be obligated in any event to reimburse the contractor in excess of the amount allotted to the contract for those item(s) regardless of anything to the contrary in the clause entitled “Termination for Convenience of the Government.” As used in this clause, the total amount payable by the Government in the event of termination of applicable contract line item(s) for convenience includes costs, profit, and estimated termination settlement costs for those item(s).

(c) Notwithstanding the dates specified in the allotment schedule in paragraph (j) of this clause, the contractor will notify the contracting officer in writing at least thirty days prior to the date when, in the contractor's best judgment, the work will reach the point at which the total amount payable by the Government, including any cost for termination for convenience, will approximate 80 percent of the total amount presently allotted to the contract for performance of the applicable item(s). The notification will state (1) the estimated date when that point will be reached and (2) an estimate of additional funding, if any, needed to continue performance of applicable line items up to the next scheduled date for allotment of funds identified in paragraph (j) of this clause, or to a mutually agreed upon substitute date. The notification will also advise the contracting officer of the estimated amount of additional funds that will be required for the timely performance of the item(s) funded pursuant to this clause, for a subsequent period as may be specified in the allotment schedule in paragraph (j) of this clause or otherwise agreed to by the parties. If after such notification additional funds are not allotted by the date identified in the contractor's notification, or by an agreed substitute date, the contracting officer will terminate any item(s) for which additional funds have not been allotted, pursuant to the clause of this contract entitled “Termination for Convenience of the Government.”

(d) When additional funds are allotted for continued performance of the contract line item(s) identified in paragraph (a) of this clause, the parties will agree as to the period of contract performance, which will be covered by the funds. The provisions of paragraphs (b) through (d) of this clause will apply in like manner to the additional allotted funds and agreed substitute date, and the contract will be modified accordingly.

(e) If, solely by reason of failure of the Government to allot additional funds, by the dates indicated below, in amounts sufficient for timely performance of the contract line item(s) identified in paragraph (a) of this clause, the contractor incurs additional costs or is delayed in the performance of the work under this contract and if additional funds are allotted, an equitable adjustment will be made in the price or prices (including appropriate target, billing, and ceiling prices where applicable) of the item(s), or in the time of delivery, or both. Failure to agree to any such equitable adjustment hereunder will be a dispute concerning a question of fact within the meaning of the clause entitled “Disputes.” In no event shall the equitable adjustment be more than the contract line item(s) price(s) in question.

(f) The Government may at any time prior to termination allot additional funds for the performance of the contract line item(s) identified in paragraph (a) of this clause.

(g) The termination provisions of this clause do not limit the rights of the Government under the clause entitled “Default.” The provisions of this clause are limited to the work and allotment of funds for the contract line item(s) set forth in paragraph (a) of this clause. This clause no longer applies once the contract is fully funded except with regard to the rights or obligations of the parties concerning equitable adjustments negotiated under paragraphs (d) and (e) of this clause.

(h) Nothing in this clause affects the right of the Government to terminate this contract pursuant to the clause of this contract entitled “Termination for Convenience of the Government.”

(i) Nothing in this clause shall be construed as authorization of voluntary services whose acceptance is otherwise prohibited under 31 U.S.C. 1342.

(j) The parties contemplate that the Government will allot funds to this contract in accordance with the following schedule:

On execution of contract $___*

(month) (day), (year) $___*

(month) (day), (year) $___*

(month) (day), (year) $___*

* To be inserted after negotiation.

(End of Clause)

Alternate I (July 2014). If only one line item will be incrementally funded, substitute the following paragraph (a) for paragraph (a) of the basic clause:

(a) Contract line item__is incrementally funded. The sum of $ * is presently available for payment and allotted to this contract. An allotment schedule is contained in paragraph (j) of this clause.

* To be inserted after negotiation.

2952.232-71 Submission of Invoices.

As prescribed in 2932.905-70, insert the following clause:

Submission of Invoices (August 2019)

(a) Electronic Invoice Submittal

Invoices for the services/goods provided under this award shall be submitted through the Department of Treasury's Invoice Processing Platform (IPP) or through DOL Quickpay email system, as directed by the Contracting Officer. IPP is a Federal Government owned and operated website accessible to contractors free of charge. Information about IPP, including enrollment instructions, are available and should be obtained by the enrolled contractors directly from the Department of Treasury after award at, https://www.ipp.gov.

(1) The following instructions apply to Invoices submitted through IPP.Gov or the DOL Quickpay email system:

(i) IPP invoice attachments SHALL NOT exceed the size limit of 10 megabytes (MB) each. However, you may submit multiple attachments of less than 10MB each with the invoices.

(ii) DO NOT submit an invoice or attachment that uses shading or color.

(b) An emailed Portable Document Format (PDF) image cannot have any text that has a background with any color other than white. If the image has a shaded background, it will be converted to black, and the text will be illegible.

(c) An emailed Tagged Image File Format (TIFF) image must be black and white.

(1) Quickpay users SHALL: provide a copy of the invoice and any attachments via email to the Contracting Officer's Representative (COR, at the address specified in the contract.

(2) Quickpay users SHALL NOT: submit more than one attachment per invoice and the attachment shall not exceed 10MB. Any additional attachments will not be recognized.

(3) DO NOT submit more than one invoice at a time.

(4) DO NOT attempt to use the “Recall or Resend” email message feature.

(d) Electronic invoices shall be in PDF or TIFF format.

(e) Paper Invoices shall be submitted via fax or U.S. mail Paper invoices may be sent via fax to: (202) 693-2862. Mail paper invoices to: U.S. Department of Labor, Office of Financial Management Operations Division of Client Accounting, Services Room S-5526, 200 Constitution Avenue NW, Washington, DC 20210.

(f) General Information

Payment due date is to be calculated from the date the invoice is received in accordance with FAR 32.905 and the instructions above.

Inquiries regarding invoices must be emailed to OCFOinvoiceinquiries@dol.gov. The relevant invoice must be attached to the inquiry email and the subject line of the email must state “INQUIRY”, as shown in the following example:

INQUIRY: Contractor Name, DOL Agency, Contract Number, BPA Call or Order Number, Invoice Number, Invoice Amount

The contractor SHALL NOT use the DOL electronic invoicing email address for inquiries about any invoice.

Questions:

All questions regarding Electronic Invoicing shall be sent to the DOL Office of the Chief Financial Officer (OCFO) at OCFOinvoiceinquiries@dol.gov.

(End of Clause)

2952.237-70 Emergency Continuation of Essential Services.

As prescribed in 2937.110, insert the following clause:

Emergency Continuation of Essential Services (March 2014)

(a) Essential Services. DOL has identified certain services under this agreement (contract, BPA, BOA, task/delivery order or other vehicle, hereinafter “requirement”) as being essential to the DOL's missions and operations. Such essential services must continue to be performed, even if an event occurs (or is threatened to occur) that would disrupt or interfere with operations at, or access to, facilities where services ordinarily take place. Such an event may include, but is not limited to, emergencies that may be natural (e.g., earthquake, flood, hurricane, tornado, public health emergencies, including pandemic influenza), man-made (e.g., civil unrest, chemical spill, cyber or terrorist threats or attacks), or technological (e.g., building fire, utility outage), and which may affect one or more facilities or locations, including federal facilities, where the contractor normally performs services hereunder.

(b) Contingency Plans. Unless already included in the requirement, within 30 days of the commencement of performance (or the bi-lateral incorporation of this clause), the contractor shall submit the following contingency plans to the contracting officer (CO) and the Contracting Officer's Representative (COR):

(1) A contingency plan to continue performance off-site for a period of between one and thirty days; and

(2) A contingency plan to continue performance off-site for more than thirty days, until the event described above is resolved.

(3) Such contingency plans will become an obligation of the contractor under the requirement.

(c) Contents of the Contingency Plans. The contingency plans referenced in paragraph above shall, at a minimum, address:

(1) How the contractor plans to continue performance of essential services for the duration of an event, including identifying and securing suitable off-site workplaces, personnel, and resources;

(2) The contractor's use of off-site facilities, including allowing its essential personnel to work from an alternative site or other remote locations to perform essential services;

(3) Alert and notification procedures for mobilizing and communicating with DOL and with essential personnel, and for communicating expectations to its personnel regarding their roles and responsibilities during the event;

(4) A list of telephone numbers and email addresses (with alternates if available) for all managers currently performing under the requirement; and

(5) Processes and requirements for the identification, training, and preparedness of essential personnel who would be capable of relocating to alternate facilities or performing work from home.

(d) Approval of the Contingency Plans. The CO, in consultation as appropriate with the COR, shall review both contingency plans within 14 days of receipt, or as agreed, and shall either accept them or advise the contractor of any reason for disapproval. If either plan is not accepted by the CO, the contractor shall resubmit a revised plan within 7 days, or as agreed.

(e) Activation of a Contingency Plan. The Agency Head, CO, COR, or other authorized agency official, may activate the contractor's Contingency Plan by notifying the contractor either orally or in writing. In the event of an oral instruction, a written confirmation of the activation will follow shortly after the resumption of normal activities. Once a contingency plan has been activated, services hereunder shall continue without delay or interruption, notwithstanding the “Excusable Delay” Clause, or any other provision of the contract (or requirement if this contract vehicle is BPA, BOA, or similar vehicle).

(f) Failure to Execute a Plan. In the event the contractor is unable or unwilling to perform the essential services identified under the requirement, as determined by DOL in its sole discretion, DOL reserves the right, in addition to any other right it may have, to use federal employees or other contract support, either from existing contracts or new contracts, to continue those critical services. DOL may view the contractor's failure to implement the Contingency Plan as not performing a contractual requirement and reserves all rights to seek remedies associated with any such nonperformance. Any new contracting efforts would be conducted in accordance with the FAR, OFPP's January 14, 2011 Emergency Acquisition Guide, or any other subsequent emergency guidance that may be issued.

(End of Clause)

2952.239-70 Section 508 Requirements.

As prescribed in 2939.2-70, insert the following clause:

Section 508 Requirements (2024)

A. Definition

The term “Information and Communication Technology (ICT)” in this contract is used as defined at FAR 48 CFR 2.101.

B. Requirements

Section 508 of the Rehabilitation Act, as amended (29 U.S.C. 794d), applies to federal departments, such as DOL, and the contractors providing support on behalf of such federal department. The contractor is required to provide Section 508 compliant systems and components of ICT when federal agencies develop, procure, maintain, or use ICT. The contractor shall ensure that its system and components allow federal employees and members of the public with disabilities access to, and use of, information and data that is comparable to the access afforded federal employees and members of the public without disabilities. Products, platforms, and services delivered as part of this contract action that are ICT, or contain ICT, shall conform to the Revised Section 508 Standards, which are located at 36 CFR 1194.1 Appendices A & C.

Please insert the clause(s) below which meet the parameters of the contract being awarded.

(a) Requirements by service/contract type are as follows:

(1) Custom ICT Development Services: When the contractor provides custom ICT development services and/or Commercially Available Off-the-Shelf (COTS) products, pursuant to the requirements, the contractor shall ensure the ICT fully conforms to the Revised 508 Standards (36 CFR 1194.1 Appendices A & C) prior to delivery and before final Acceptance.

(2) Installation, Configuration, & Integration Services: When the contractor provides installation, configuration, or integration services for equipment or software pursuant to the requirement, the contractor shall not install, configure or integrate the equipment or software in a way that reduces the level of conformance with the Revised 508 Standards (36 CFR 1194.1 Appendices A & C).

(3) Maintenance Upgrades & Replacements: The contractor shall ensure maintenance upgrades, substitutions, and replacements to equipment and software pursuant to this award do not reduce the approved level of conformance with the Revised 508 Standards (36 CFR 1194.1 Appendices A & C) at the time of award. Additionally, an updated Accessibility Conformance Report (ACR) shall be submitted for the ICT, and the ACR shall be completed according to the instructions provided by the Information Technology Industry Council (ITI), in order to be considered for each option year exercised.

(4) Contractor Processes: The contractor shall ensure—its processes are at a maturity level at least equivalent to the DHS Trusted Tester methodology; its personnel have the knowledge, skills, and ability necessary to make ICT under this contract conform to the Revised 508 Standards (36 CFR 1194.1 Appendices A & C); and that it provides conformant Section 508 supporting documentation upon request.

(5) Hosting Services: The contractor shall not implement hosting services in a manner that reduces the existing level of conformance of the electronic content with the Revised 508 Standards (36 CFR 1194.1 Appendices A & C), when providing hosting services for electronic content to the agency. Throughout the life of the award, the agency reserves the right to perform Independent third-party testing on a vendor or contractor's hosted solution to verify conformance.

(b) Validation for ICT: The contractor shall test and validate the ICT for conformance to the Revised 508 Standards (36 CFR 1194.1 Appendices A & C), in accordance with the required testing methods and provide test results to verify conformance of the Voluntary Product Assessment Template (VPAT).

(1) For web and software, WCAG 2.0 Level A and AA Conformance test results shall be based on the Accessibility Tests for Software and Web, Harmonized Testing Process for Section 508 Compliance from the DHS Trusted Tester program.

(2) For Microsoft Office and PDF documents, WCAG 2.0 Level A, and AA Conformance test results shall be based on the Harmonized Testing Guidance from the Accessible Electronic Documents Community of Practice.

(3) For ICT that are not electronic content, the contractor shall validate conformance to the Revised 508 Standards (36 CFR 1194.1 Appendices A & C) using a defined testing process. The contractor shall describe test process and provide the testing results to the agency.

(c) Conformance Reporting: For ICT that are developed, updated, or configured for the agency, and when product substitutions are offered:

(1) Before Acceptance, the contractor shall provide an Accessibility Conformance Report (ACR) for the ICT that is developed, updated, configured for the agency, and when product substitutions are offered. The ACR should be based on the most recent version of the Voluntary Product Assessment Template (VPAT) provided by the Information Technology Industry Council (ITI). An ACR shall be submitted for each ICT and shall be completed according to the instructions provided by ITI to be considered for Acceptance.

(2) Before Acceptance, when the contractor is required to perform testing to validate conformance to the agency's accessibility requirements, the vendor shall provide a supplemental accessibility report that contains the following information:

i. Accessibility test results based on the required test methods.

ii. Documentation of features provided to help achieve accessibility and usability for people with disabilities.

iii. Documentation of core functions that cannot be accessed by persons with disabilities.

iv. Documentation on how to configure and install the ICT to support accessibility.

v. When ICT is an authoring tool that generates content (including documents, reports, training, videos, multimedia productions, web content, etc.), provide information on how the ICT enables the creation of accessible electronic content that conforms to the Revised 508 Standards (36 CFR 1194.1 Appendices A & C), including the range of accessible user interface elements the tool can create.

vi. Before final Acceptance, the contractor shall provide a fully working demonstration of the completed ICT to demonstrate conformance to the agency's accessibility requirements. The demonstration shall expose where such conformance is and is not achieved.

(3) At any time, DOL reserves the right to perform Independent third-party testing to validate the ICT provided by the contractor, conforms to the Revised 508 Standards (36 CFR 1194.1 Appendices A & C).

(d) Non-Compliance: Before final Acceptance of ICT, including updates and replacements, DOL shall determine that the furnished ICT is in compliance with the Revised 508 Standards (36 CFR 1194.1 Appendices A & C). If the furnished ICT is determined to be non-compliant, the contracting officer shall notify the contractor of this determination, within 15 business days of determination of non-compliance. The contractor shall, at no cost to DOL, repair or replace the non-compliant products or services within the period specified by the contracting officer. The contracting officer makes the final decision to accept or not accept a contractor's ICT that does not meet the Revised 508 Standards (36 CFR 1194.1 Appendices A & C).

(End of Clause)

2952.242-70 Access to Contractor Business Systems.

As prescribed in 2942.101-70, insert the following clause:

Access to Contractor Business Systems (April 2019)

The contractor shall, upon request, provide to the Government, access to covered contractor systems associated with the execution and performance of this requirement to meet audits, reviews, security requirements, and Office of Inspector General requests.

(End of Clause)

2952.242-71 DOL Mandatory Training Requirements for Contractor Employees.

As prescribed in 2942.201-70, insert the following clause:

DOL Mandatory Training Requirements for Contractor Employees (August 2018)

(a) Where required and applicable, contractor employees, including employees of subcontractors at any tier, shall complete any DOL designated and hosted training, that the Contracting Officer's Representative (COR) identifies as mandatory. Training shall be completed in a timeframe specified by the COR.

(b) Time spent on training shall be counted as regular hours worked.

(c) The contractor shall ensure this clause is incorporated in all subcontracts, at any tier.

(End of Clause)

2952.243-70 Contractor's Obligation to Notify the Contracting Officer of a Request to Change the Contract Scope (Contractor's Obligation Clause).

As prescribed in 2943.104-70, insert the following clause:

Contractor's Obligation To Notify the Contracting Officer of a Request To Change the Contract Scope (Contractor's Obligation Clause) January 2012

(a) Except for changes identified in writing and signed by the contracting officer, the contractor is required to notify, within five working days of receipt or knowledge, any request for changes to this contract (including actions, inactions, and written or oral communications) that the contractor regards as exceeding the scope of the contract. On the basis of the most accurate information available to the contractor, the notice shall state:

(1) The date, nature, and circumstances of the conduct regarded as a change in scope;

(2) The name, function, and activity of each Government employee and contractor official or employee involved in, or knowledgeable about, such conduct; and

(3) The identification of any documents and substance of any oral communication involved in such conduct.

(b) Following submission of this notice, the contractor shall continue performance in accordance with the contract terms and conditions, unless notified otherwise by the contracting officer.

(c) The contracting officer shall promptly, within 5 business days after receipt of notice from the contractor, respond to the notice in writing. In responding, the contracting officer shall either:

(1) Confirm that the contractor's notice identifies a change in the scope of the contract and directs the contractor to stop work, completely or in part, in accordance with the Stop Work provisions of the contract;

(2) Deny that the contractor's notice identifies a change in scope and instruct the contractor to continue performance under the contract; or

(3) In the event the contractor's notice does not provide sufficient information to make a decision, advise the contractor what additional information is required, and establish the date by which it should be furnished and the date thereafter by which the Government will respond.

(End of Clause)

2952.245-70 Contractor Responsibility to Report Theft of Government Property.

As prescribed in 2945.104-70, insert the following clause:

Contractor Responsibility to Report Theft of Government Property (February 2020)

Upon the contractor becoming aware of theft of government property by its employee(s), including theft that occurs at subcontractor or alternate site locations, the contractor shall report the theft of government property to the Contracting Officer's Representative or CO of record.

(End of Clause)

2952.245-71 Asset Reporting Requirements.

As prescribed in 2945.105-70, insert the following clause:

Asset Reporting Requirements (July 2019)

(A) Definitions.

“Accountable Property” is a term to identify property that is essential to DOL operations for which it is in the best interest of the Government to assign and record accountability to assure proper use, maintenance, and disposal. This includes items purchased and obtained through a “lease-to-own” program. The following items are DOL Accountable Property:

(1) DOL-owned or DOL-leased, serialized items (i.e., items with a manufacturer's serial number) with an acquisition unit cost above $3,000.

(2) DOL-owned or DOL-leased “sensitive items.”

(3) DOL-owned or DOL-leased furniture with an acquisition unit cost above $10,000. Items with an acquisition unit cost less than $10,000 are not applicable.

“Sensitive Items” is defined as items, regardless of value, that have appeal to others and may therefore be subject to theft, or to security concerns, or that are considered mission critical. The following are considered sensitive items, as well as any other items identified as sensitive by the Contracting Officer's Representative (COR):

(1) Desktops and Laptops, including docking stations and connectable monitors.

(2) PDAs/iPads/SurfacePros/Tablets.

(3) Printers and Copiers.

(4) Software Licenses, including media.

(5) Mobile Devices.

(6) Firearms.

(7) Communication Equipment (e.g. telephone base and handsets, mobile radio equipment, etc.).

(8) Conference/Audio-Visual Equipment.

(9) Power/Specialty Tools (e.g. lab equipment, postage meters, etc.).

(B) Requirements.

The contractor shall submit a DOL Asset Report at time of delivery for both Accountable Property and Sensitive Items. The DOL Asset Report shall be delivered electronically to the COR. DOL Asset Reports shall include Accountable Property and Sensitive Items that have been delivered. The report shall be formatted as an Office Open XML Spreadsheet (.XLSX) document, and adhere to following DOL Asset Report Requirements:

(a) Award/Purchase Number. The award number issued by the Government.

(b) Date Shipped. The date the item was shipped to the Government.

(c) Asset Type. The contract Line-Item Description.

(d) Manufacturer. The manufacturer of the item.

(e) Model. The model (name and/or number) of the item.

(f) Serial Number. The serial number of the item.

(g) DOL Asset Number. The number of the barcode applied before shipping (if barcoding is required by the award).

(h) Government Shipping Street Address. The shipping street address of where the item was delivered.

(i) Warrantied Item. Indicates whether an item is warrantied (Y or N).

(j) Warranty Time frame. The start and end date of the warranty (if applicable).

(k) Cost. Acquisition cost per unit and total cost of purchase.

(End of Clause)

Signing Authority

In accordance with paragraph (a) of 2902.1, FAR subpart 1.601, the undersigned is authorized to sign and submit this document to the Office of the Federal Register for publication electronically as an official document of DOL.

Dated: August 14, 2023.
Carolyn Angus-Hornbuckle,
Acting Assistant Secretary for Administration and Management.

Note: The following appendix will not appear in the Code of Federal Regulations.

Current DOLAR provision | DOLAR as proposed in this NPRM
| New: 2901.105 Issuance.
| New: 2901.105-1 Publication and code arrangement.
2901.2 Administration | Removed.
2901.201-1 Maintenance of FAR | Removed.
2901.302 Limitations | Removed.
2901.4 Deviations from the FAR and DOLAR | Renamed: Deviations from the DOLAR.
2901.403 Individual Deviations from the FAR | Renumbered and Renamed: 2901.401 Individual Deviations from the DOLAR. Additionally, proposing to edit language regarding the process for requesting individual deviations to provide clarity.
2901.404 Class deviations | Renumbered and Renamed: 2901.402 Class deviations from the DOLAR Additionally, proposing to edit language regarding the process for requesting class deviations to provide clarity.
2901.405 Deviations pertaining to treaties and executive agreements | Removed.
2901.601 General | Removed.
| New: 2901.602-70 Contract Clause.
2901.602-3 Ratification of unauthorized commitments | Removed.
2901.603 Selection, appointment, and termination of appointment | Removed.
2901.603-1 General. | Removed.
2901.603-3 Appointment. | Removed.
2901.603-4 Terminations. | Removed.
2901.603-70 Responsibility of other government personnel | Removed.
2901.603-71 Contracting Officer's Technical Representatives (COTR) | Removed.
2901.603-72 Administrative procurement management reviews | Removed.
PART 2902—DEFINITIONS OF WORDS AND TERMS | Renamed: PART 2902—DEFINITIONS.
Subpart 2.1 Definitions | Renumbered: 2902.1 Definitions.
Subpart 2903.1—Safeguards | Renamed: Subpart 2903.1 Definitions.
2903.101 Standards of Conduct | Renamed: 2903.101 Definitions.
2903.101-1 General | Renamed: 2903.101-1 Definitions. Also proposing to define Agency Ethics Official and remove instructions to DOL acquisition personnel on where to find statutory prohibitions, which are contained in internal policy and procedure.
2903.104 Procurement Integrity | Removed.
2903.104-3 Definitions | Removed.
2903.104-5 Disclosure, protection, and marking of contractor bid or proposal information and source selection information | Removed.
2903.104-7 Violations or possible violations of standards of conduct | Removed.
2903.6 Contracts with Government Employees or Organizations Owned or Controlled by Them | Removed.
2903.601 Policy | Removed.
2903.602 Exceptions | Removed.
| New Subpart 2903.7—Authority.
| New: 2903.703 Authority.
| New: Subpart 2904.7 Contractor Records Retention.
| New: 2904.703 Policy.
| New: 2904.703-70 Contract Clause.
2904.8—Government Contract Files | Removed.
2904.800-70 Contents of contract files | Removed.
Subpart 2905.1—Dissemination of Information | Removed.
2905.101 Methods of disseminating information | Removed.
Subpart 2905.4 Release of Information | Removed.
2905.402 General Public | Removed.
2905.403 Requests from Members of Congress | Removed.
2905.404 Release procedures | Removed.
Subpart 2905.5—Paid Advertisements | Removed.
2905.501 Scope | Removed.
2905.502 Authority | Removed.
2905.503 Procedures | Removed.
PART 2906—COMPETITION REQUIREMENTS | Removed.
Subpart 2906.3 Other Than Full and Open Competition | Removed.
2906.301 Policy | Removed.
2906.303 Justifications | Removed.
Subpart 2906.5 Competition Advocate | Removed.
2906.501 Requirement | Removed.
2907.105 Contents of written acquisition plans | Removed.
2907.107 Additional requirements for acquisitions involving bundling | Removed.
| New: 2901.101 Consolidation.
| New: 2907.108 Additional Requirements for Telecommuting.
| New: 2907.108-70 Contract Clauses.
2907.3—Contractor Versus Government Performance | Removed.
2907.300 Availability of inventory | Removed.
Subpart 2908.4 Federal Supply Schedules | Removed.
2908.404 Using schedules | Removed.
Subpart 2909.1 Responsible Prospective Contractors | Removed.
2909.105 Procedures | Removed.
| New: Subpart 2909.3 Definitions.
| New: 2909.301 Definitions.
Subpart 2909.4—Debarment, Suspension, and Ineligibility | Removed.
2909.402 Policy | Removed.
2909.405 Effects of listing | Removed.
2909.405-1 Continuation of current contracts | Removed.
2909.406 Debarment | Removed.
2909.406-1 General | Removed.
2909.406-3 Procedures | Removed.
2909.407 Suspension | Removed.
2909.407-1 General | Removed.
2909.506 Procedures | Removed.
| New: 2909.507-70 Contract Clause.
PART 2910—MARKET RESEARCH | Removed.
2910.002 Procedures | Removed.
| New: 2911.002 Policy.
| New: 2911.002-1 Contract Clause.
2911.1—Selecting And Developing Requirements Documents | Removed.
2911.103 Market acceptance | Removed.
2911.5—Liquidated Damages | Removed.
2911.501 Policy | Removed.
PART 2912—ACQUISITION OF COMMERCIAL ITEMS | Removed.
Subpart 2912.3—Solicitation Provisions and Contract Clauses for the Acquisition of Commercial Items | Removed.
2912.302 Tailoring of provisions and clauses for the acquisition of commercial items | Removed.
PART 2913—SIMPLIFIED ACQUISITION PROCEDURES | Removed.
Subpart 2913.1—Procedures | Removed.
2913.106-3 Soliciting competition, evaluation of quotations or offers, award and documentation | Removed.
Subpart 2913.2—Actions at or Below the Micro-Purchase Threshold | Removed.
2913.201 General | Removed.
Subpart 2913.3—Simplified Acquisition Methods | Removed.
2913.301 Governmentwide commercial purchase card | Removed.
2913.307 Forms | Removed.
PART 2914 SEALED BIDDING | Removed.
Subpart 2914.4—Opening of Bids and Award of Contract | Removed.
2914.404-1 Cancellation of invitations after opening | Removed.
2914.407-3 Other mistakes disclosed before award | Removed.
2914.408 Award | Removed.
2914.408-1 General | Removed.
Subpart 2915.4 Contract Pricing | Removed.
2915.405-70 Determining fair and reasonable price | Removed.
Subpart 2915.5—Preaward, Award, and Postaward Notifications, Protests, and Mistakes | Removed.
2915.508 Discovery of mistakes | Removed.
2915.606 Agency procedures | Removed.
PART 2916—CONTRACT TYPES | Removed.
2916.000 Scope of part | Removed.
Subpart 2916.5—Indefinite-Delivery Contracts | Removed.
2916.505 Ordering | Removed.
Subpart 2916.6—Time-and-Materials, Labor-Hour, and Letter Contracts | Removed.
2916.603-2 Application | Removed.
PART 2917—SPECIAL CONTRACTING METHODS | Removed.
2917.000 Scope of part | Removed.
Subpart 2917.2—Options | Removed.
2917.202 Use of options | Removed.
2917.207 Exercising options | Removed.
Subpart 2917.5—Interagency Acquisitions Under The Economy Act | Removed.
2917.500 Scope of subpart | Removed.
2917.501 Definitions | Removed.
2917.502 General | Removed.
2917.503 Determinations and findings Requirements | Removed.
2917.504 Ordering procedures | Removed.
2917.504-70 Signature authority and internal Procedures | Removed.
2919.000 Scope of part | Removed.
2919.202 Specific policies | Removed.
2919.202-1 Encouraging small business participation in acquisitions | Removed.
2919.202-2 Locating small business sources | Removed.
Subpart 2919.5 Set-Asides for Small Business | Removed.
2919.502 Setting aside acquisitions | Removed.
2919.505 Rejecting Small Business Administration recommendations | Removed.
Subpart 2919.7 The Small Business Subcontracting Program | Removed.
2919.704 Subcontracting plan requirements | Removed.
2919.705-1 General support for the program | Removed.
2919.705-5 Awards involving subcontracting plans | Removed.
2919.705-6 Post-award responsibilities of the contracting officer | Removed.
2919.706 Responsibilities of the cognizant administrative contracting officer | Removed.
Subpart 2919.8 Contracting with the Small Business Administration (the 8(a) Program) | Removed.
2919.812 Contract administration | Removed.
PART 2922—APPLICATION OF LABOR LAWS TO GOVERNMENT ACQUISITIONS | Removed.
Subpart 2922.1 Basic Labor Policies | Removed.
2922.101-3 Reporting labor disputes | Removed.
2922.101-4 Removal of items from contractor facilities affected by work stoppages | Removed.
2922.103-4 Approvals | Removed.
Subpart 2922.8 Equal Employment Opportunity | Removed.
2922.802 General | Removed.
PART 2923—ENVIRONMENT, ENERGY AND WATER EFFICIENCY, RENEWABLE ENERGY TECHNOLOGIES, OCCUPATIONAL SAFETY, AND DRUG-FREE WORKPLACE | Removed.
Subpart 2923.2 Energy And Water Efficiency and Renewable Energy | Removed.
2923.271 Purchase and use of environmentally sound and energy efficient products and services | Removed. New: PART 2924—PROTECTION OF PRIVACY AND FREEDOM OF INFORMATION.
| New: 2924-.1 Protection of Individual Privacy.
| New: 2924.103 Procedures.
| New: 2924.103-70 Contract Clause.
| New: 2928.106 Administration.
| New: 2928.106-6 Furnishing information.
| New: 2928.203 Acceptability of individual sureties.
2928.204 Alternatives in lieu of corporate or individual sureties | Removed.
2928.3 Insurance | Removed.
2928.305 Overseas workers' compensation and war hazard insurance | Removed.
PART 29—TAXES | Removed.
Subpart 2929.1 General | Removed.
2929.101 Resolving tax problems | Removed.
Subpart 2929.3—State and Local Taxes | Removed.
2929.303 Applications of state and local taxes to Government contractors and subcontractors | Removed.
PART 2930—COST ACCOUNTING STANDARDS ADMINISTRATION | Removed.
Subpart 2930.2 CAS Program Requirements | Removed.
2930.201-5 Waiver | Removed.
PART 2931—CONTRACT COST PRINCIPLES AND PROCEDURES | Removed.
Subpart 2931.1 Applicability | Removed.
2931.101 Objectives | Removed.
2932.402 General | Removed.
2932.407 Interest | Removed.
| New: 2932.408 Applicability of Interest on Advance Payments.
| New: Subpart 2932.5 Progress Payments Based on Costs.
| New: 2932.501-2 Unusual progress payments.
| New: 2932.503-6 Suspension or reduction of payments.
| New: 2932.703-70 Contract clause.
| New: Subpart 2932.9 Prompt Payment.
| New: 2932.908 Contract clause.
2933.211 Contracting officer's decision | Removed.
2933.213 Obligation to continue performance | Removed.
2933.270 Department of Labor Board of Contract Appeals | Removed.
PART 36 CONSTRUCTION AND ARCHITECT—ENGINEER CONTRACTS | Removed.
Subpart 2936.2 Special Aspects of Contracting for Construction | Removed.
2936.201 Evaluation of contractor performance | Removed.
2936.209 Construction contracts with architect—engineer firms | Removed.
Subpart 2936.5—Contract Clauses | Removed.
2936.516 Quality surveys | Removed.
Subpart 2936.6—Architect-Engineer Services | Removed.
2936.602 Selection of firms for architect-engineer Contracts | Removed.
2936.602-1 Selection criteria | Removed.
2936.602-2 Evaluation boards | Removed.
2936.602-3 Evaluation board functions | Removed.
2936.602-4 Selection Authority | Removed.
2936.602-5 Short selection processes for contracts not to exceed $100,000 | Removed.
2936.603 Collecting data on and appraising firms' Qualifications | Removed.
2936.604 Performance evaluation | Removed.
2937.103 Contracting officer responsibility | Removed.
2937.103-70 Department of Labor checklist to aid analysis and review of requirements for service contracts | Removed.
| New: 2937.110 Contract Clause.
Subpart 2937.2 Advisory and Assistance Services | Removed.
2937.203 Policy | Removed.
Subpart 2937.6—Preference for Performance-Based Contracting (PBC) | Removed.
2937.602 Elements of performance-based Contracting | Removed.
| New: PART 2939—ACQUISITION OF INFORMATION TECHNOLOGY.
| New: Subpart 2939.2—Information and Communication Technology.
| New: 2939.2-70 Contract Clause.
2942.101 Policy | Renamed: 2942.101 Contract Audit Responsibilities. The proposed change will change this into simply a heading and proposes to eliminate the internal procedure for the establishment of billing rates and indirect cost rates since it is prescribed in FAR 42.7.
| New: 2942.101.70 Contract Clause.
Subpart 2942.15—Contractor Performance Information | Removed.
2942.1501 Scope | Removed.
2942.1502 Policy | Removed.
2942.1503 Procedures | Removed.
| New: Subpart 2942.2 Contract Administration Services.
| New: 2942.201 Contract administration responsibilities.
| New: 2942.201-70 Contract Clause.
| New: Subpart 2943.1 General.
| New: 2943.104 Notification of contract changes.
| New: 2943.104-70 Contract Clause.
Subpart 2943.2 Change Orders | Removed.
2943.205 Contract clauses | Removed.
Subpart 2943.3 Forms | Removed.
2943.301 Use of forms | Removed.
PART 2944—SUBCONTRACTING POLICIES AND PROCEDURES | Removed.
Subpart 2944.1 General | Removed.
2944.101 Waiver | Removed.
Subpart 2944.2 Consent To Subcontract | Removed.
2944.201-1 Consent requirements | Removed.
2944.202 Contracting officer's evaluation | Removed.
2944.202-2 Considerations | Removed.
2944.203 Consent limitations | Removed.
Subpart 2944.3 Contractors' Purchasing Systems Reviews | Removed.
2944.302 Requirements | Removed.
2945.104 Review and correction of contractors' property control systems | Renamed: 2945.104 Responsibility and Liability for Government Property. The proposed change will transform this into simply a heading and proposes to eliminate procedures for the review of a contractor's property control system, because it is established in internal policy and procedure.
| New: 2945.104-70 Contract Clause.
2945.105 Records of Government property | Renamed: Contractors' property management system compliance. The proposed change will transform this into simply a heading and proposes to eliminate internal process related to Government furnished Property (GFP) files maintained by the CO, because these procedures are located in internal policy and procedure.
| New: 2945.105-70 Contract Clause.
Subpart 2945.3 Providing Government Property to Contractors | Removed.
2945.302 Providing facilities | Removed.
Subpart 2945.4 Contractor Use and Rental of Government Property | Removed.
2945.403 Rental-use and charges clause | Removed.
2952.201-70 Contracting Officer's Technical Representative (COTR) | Renamed: 2952.201-70 Contracting Officer's Representative (COR) Clause Proposes to update to the most recent version of this clause where only paragraph (a) is proposed to establish issuance of COR delegation memo upon contract awards. No change to paragraphs (b), and (c).
| New: 2952.204-70 Records Management Requirements.
| New: 2952.207-70 Contractor Personnel Telework.
| New: 2952.209-70 Organizational Conflict of Interest Clause—OCI-1 Exclusion From Future Agency Contracts.
| New: 2952.211-70 Internet Protocol Version 6 (IPv6) Clause.
| New: 2952.224-70 Privacy Breach Notification Requirements.
| New: 2952.232-70 Limitation of Government's Obligation (LoGO).
| New: 2952.232-71 Submission of Invoices.
| New: 2952.237-70 Emergency Continuation of Essential Services.
| New: 2952.239-70 Section 508 Requirements.
| New: 2952.242-70 Access to Contractor Business Systems.
| New: 2952.242-71 DOL Mandatory Training Requirements for Contractor Employees.
| New: 2952.243-70 Contractor's Obligation to Notify the Contracting Officer of a Request to Change the Contract Scope (Contractor's Obligation Clause).
| New: 2952.245-70 Contractor Responsibility to Report Theft of Government Property.
| New: 2952.245-71 Asset Reporting Requirements.
PART 2953—FORMS | Removed.
2953.1 General | Removed.
2953.100 Request for Recommendation by Procurement Review Board DL 1-490 | Removed.
2953.101 Simplified Acquisition Documentation Checklist DL 1-2216 | Removed.
2953.102 Quotation for Simplified Acquisitions DL 1-2078 | Removed.
2953.103 Acquisition Screening and Review—over $100,000 DL 1-2004 | Removed.

[FR Doc. 2023-17739 Filed 9-1-23; 8:45 am]

BILLING CODE 4510-04-P